DEPARTMENT OF COMMERCE

International Trade Administration

A-533-824

Polyethylene Terephthalate (PET) Film, Sheet, and Strip from India: Extension of Time Limit for Preliminary Results of Antidumping Duty Administrative Review

AGENCY: Import Administration, International Trade Administration, U.S. Department of Commerce.

EFFECTIVE DATE: March 23, 2007.

FOR FURTHER INFORMATION CONTACT: Jun Jack Zhao or Jacqueline Arrowsmith, Office of AD/CVD Operations 6, Import Administration, International Trade Administration, U.S. Department of Commerce, 14th Street and Constitution Avenue, NW., Washington, DC 20230; telephone: (202) 482-1396 or (202) 482-5255, respectively.

SUPPLEMENTARY INFORMATION:

Background

On August 30, 2006, in response to timely requests from Jindal Poly Films Limited of India and MTZ Polyfilms, Ltd., the Department of Commerce (the Department) initiated an administrative review of the antidumping duty order on polyethylene terephthalate (PET) film from India. See Initiation of Antidumping and Countervailing Duty Administrative Reviews and Requests for Revocation in Part, 71 FR 51573 (August 30, 2006). This administrative review covers the period July 1, 2005 through June 30, 2006. On January 10, 2007, we rescinded the review of Jindal Poly Films Limited of India as a result of the withdrawal of its request for an administrative review. See Polyethylene Terephthalate Film, Sheet, and Strip from India: Notice of Rescission, in Part, of Antidumping Duty Administrative Review 72 FR 1216.

Extension of Time Limits for Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

We determine that it is not practicable to complete the preliminary results of this review within the original time limit due to the complex issues related to terms of sale, and the fact that the Department will need to issue additional supplemental questionnaires. Therefore, the Department is extending the deadline for completion of the preliminary results of this administrative review of the antidumping duty order on PET film from India by 120 days from April 2, 2007 until no later than July 31, 2007.

This notice is issued and published pursuant to sections 751(a)(1) and 777(i)(1) of the Act.

Dated: March 19, 2007.
Stephen J. Claeys,
Deputy Assistant Secretary for Import Administration.

[FR Doc. E7-5387 Filed 3-22-07; 8:45 am]

BILLING CODE 3510-DS-S